DEPARTMENT OF HOMELAND SECURITY

Coast Guard

33 CFR Parts 97 and 160

46 CFR Part 97

[Docket No. USCG-2000-7080]

RIN 1625-AA25 [Formerly RIN 2115-AF97]

Cargo Securing Manuals

AGENCY: Coast Guard, DHS.

ACTION: Interim rule; information collection approval.

SUMMARY: The Coast Guard announces that it has received approval from the Office of Management and Budget for an information collection request associated with the Cargo Securing Manuals interim rule we published in the Federal Register on May 9, 2016. In that rule, we stated the interim rule will impose new information collection requirements and that we would submit these new information collection requirements to OMB for its review and publish a document in the Federal Register announcing the results of OMB's review. OMB approved this new collection of information, entitled Cargo Securing Manuals, on June 23, 2016, and assigned it OMB control number 1625-0122.

DATES: On June 23, 2016, OMB approved the Coast Guard's collection of information request associated with the Cargo Securing Manuals interim rule published May 9, 2016 at 81 FR 27992. OMB's approval for this collection of information expires on June 30, 2019.

FOR FURTHER INFORMATION CONTACT: If you have questions on this rule, call or email Mr. Ken Smith, Environmental Standards Division (CG-OES-2), U.S. Coast Guard; telephone 202-372-1413, email Ken.A.Smith@uscg.mil.

SUPPLEMENTARY INFORMATION:

Viewing Items Associated With This Document

To view OMB's approval memo or the Cargo Securing Manuals interim rule, go to www.regulations.gov, type the docket number, USCG-2000-7080, in the “SEARCH” box and click “SEARCH.” Click on “Open Docket Folder” in the first item listed. Use the following link to go directly to the docket: http://www.regulations.gov/#!docketDetail;D=USCG-2000-7080.

Background

On May 9, 2016, the Coast Guard published an interim rule (81 FR 27992) that implemented cargo securing manual requirements. Part 97, subpart A, and § 160.215 of 33 CFR and 46 CFR 97.12-10 in that rule contain collection-of-information provisions that require approval by the Office of Management and Budget (OMB) under the Paperwork Reduction Act of 1995, 44 U.S.C. 3501-3520. On June 23, 2016, the OMB approved the Coast Guard's collection of information request for this interim rule and assigned OMB Control Number 1625-0122 to the new collection entitled, Cargo Securing Manuals. The approval for this collection of information expires on June 30, 2019.

This document is issued under the authority of 5 U.S.C. 552(a).

Dated: July 6, 2016.
F.J. Sturm,
Acting Director, Commercial Regulations and Standards.

[FR Doc. 2016-16416 Filed 7-11-16; 8:45 am]

BILLING CODE 9110-04-P